DEPARTMENT OF HOMELAND SECURITY

Coast Guard

[USCG-2003-14878]

Automatic Identification System; Expansion of Carriage Requirements for U.S. Waters

AGENCY: Coast Guard, DHS.

ACTION: Notice; request for comments.

SUMMARY: The Maritime Transportation Security Act of 2002 requires certain vessels to carry an Automatic Identification System. In an interim rule published elsewhere in today's Federal Register, the Coast Guard is requiring Automatic Identification System carriage as agreed to by the international community in amendments to the International Convention for the Safety of Life at Sea, 1974, and as directed by the Maritime Transportation Security Act. That rulemaking, however, covers only vessels on international voyages and certain vessels on specified waterways of the United States. This notice solicits comment on how best to address implementation on the remaining navigable waters of the U.S. for vessels not on international voyages.

DATES: Comments and related material must reach the Docket Management Facility on or before September 29, 2003.

ADDRESSES: To make sure that your comments and related material are not entered more than once in the docket, please submit them by only one of the following means:

(1) By mail to the Docket Management Facility (USCG-2003-14878), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this notice, contact Mr. Jorge Arroyo, Office of Vessel Traffic Management (G-MWV-1), U.S. Coast Guard Headquarters, telephone: 202-267-6277, fax: 202-267-4826 or e-mail: jarroyo@comdt.uscg.mil. If you have questions on viewing or submitting material to the docket, call Ms. Dorothy Beard, Chief, Dockets, Department of Transportation, telephone: 202-366-5149.

SUPPLEMENTARY INFORMATION:

Request for Comments

We encourage you to participate by submitting comments and related material. If you do so, please include your name and address, identify the docket number [USCG-2003-14878], indicate the specific question of this document to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period. Your comments and any other matters you bring to our attention during the comment period will be taken into account in Coast Guard actions regarding the issues raised in the Questions section below.

Note, matters pertaining to AIS licensing, equipment certification, and frequencies are subject to Federal Communications Commission regulations and are not addressed in this notice, see FCC Public Notice DA 02-1362 in the docket for further information.

Background and Purpose

The Maritime Transportation Security Act of 2002 (MTSA), Public Law 107-295, was enacted November 25, 2002, and requires that four specific categories of vessels be equipped with and operate an Automatic Identification System (AIS). These categories are—

1. Self-propelled commercial vessels 65 feet or more in length;

2. Vessels carrying more than a number of passengers for hire determined by the Secretary of the agency in which the Coast Guard is operating;

3. Towing vessels of more than 26 feet in length and 600 horsepower; and

4. Other vessels for which the Secretary determines AIS is necessary for safe navigation of the vessel. (46 U.S.C. 70114(a)(1)(A)-(D)).

Under the MTSA, vessels that must be equipped with AIS must use it in all navigable waters of the United States, unless the Secretary finds that AIS is not needed for safe navigation on specified navigable waters. If such a finding is made, the Secretary may waive the AIS requirements in those waters (46 U.S.C. 70114(a)(2)(B)). The MTSA also allows the Secretary to exempt a vessel from the AIS requirement if the Secretary finds that AIS is not necessary for the safe navigation of the vessel on the waters on which the vessel operates (46 U.S.C. 70114(a)(2)(A)).

In an interim rule published elsewhere in today's Federal Register, titled “Automatic Identification System; Vessel Carriage Requirement” (Docket USCG-2003-14757, RIN 1625-AA67), the Coast Guard will require the following vessels to install and operate AIS:

(1) Vessels subject to the International Convention for the Safety of Life at Sea, 1974, (SOLAS) and on international voyage, under the schedule set forth in SOLAS chapter V, regulation 19.2.4;

(2) Vessels not subject to SOLAS that are 65 feet or more in length, in commercial service and on an international voyage, by December 31, 2004; and

(3) The following Vessel Traffic Service (VTS) and Vessel Movement Reporting System (VMRS) users:

(i) Self-propelled vessels of 65 feet or more in length, in commercial service;

(ii) Towing vessels 26 feet or more in length and more than 600 horsepower;

(iii) Vessels of 100 gross tons or more carrying one or more passengers for hire; and

(iv) Passenger vessels certificated to carry 50 or more passengers for hire.

These vessels must comply: by December 31, 2003, within VTS St. Marys River; by July 1, 2004, within VTS Berwick Bay, VMRS Los Angeles/Long Beach, VTS Lower Mississippi River, VTS Port Arthur and VTS Prince William Sound; by December 31, 2004, within VTS Houston-Galveston, VTS New York, VTS Puget Sound, and VTS San Francisco.

The Coast Guard recognizes the benefits of AIS and has been a leading proponent of AIS technology since its inception. AIS is an effective navigation and communications tool for reducing collisions, enhancing situational awareness, and playing a part in U.S. maritime domain awareness. Its corollary function, as a surveillance tool, has taken on greater import in these times of heightened vigilance and proactive homeland security. Achieving accurate, real-time maritime domain awareness is of vital interest to the Coast Guard and the Nation. Congress passed the MTSA and the international community, upon the initiative of the Unites States and through the actions of the International Maritime Organization (IMO), amended SOLAS to accelerate the implementation of AIS.

Our AIS interim rule (USCG-2003-14757), published elsewhere in today's Federal Register, is the first step in that process. That interim rule will implement AIS in accordance with the schedule agreed to at the IMO Diplomatic Conference held in December 2002 on vessels on international voyages (see table below), and it also imposes an AIS requirement on all commercial VTS and VMRS users.

Table—SOLAS AIS Schedule (Chapter V, Regulation 19.2.4) for Vessels on International Voyages
Constructed | Type of vessel | Implementation date
On or after July 1, 2002 | All | July 1, 2002.
Before July 1, 2002 | Passenger ships (carrying 12 or more passengers) | July 1, 2003.
| Tankers | First survey for safety equipment on or after July 1, 2003.
| Ships, other than passenger ships and tankers, greater than or equal to 50,000 gross tonnage | July 1, 2004
| Ships, other than passenger ships and tankers, greater than or equal to 300, but less than 50,000 gross tonnage | First safety equipment survey after July 1, 2004, or by December 31, 2004, whichever occurs earlier.

The process of deploying this technology into all existing and future VTS areas is well underway. The Coast Guard intends to expand the safety and security benefits of AIS by extending the shore-tracking surveillance capability throughout our Nation's waterways as a major element of maritime domain awareness and homeland security.

Design and installation of the expanded capability is underway but not yet fully operational. Therefore, we want to take this opportunity to ask some questions of the public to (1) assist us in developing an overall AIS strategy, and (2) address expanded carriage of AIS beyond SOLAS vessels, VTS and VMRS areas, and certain other commercial and non-commercial vessels that are omitted from the AIS interim rule (USCG-2003-14757) published elsewhere in today's Federal Register.

Questions

We need the public's assistance in answering the following questions, and any additional information provided on this topic is welcome. In responding to each question, please explain your reasons for each answer as specifically as possible so that we can carefully weigh the consequences and impacts of any future actions we may take.

In preparing your response to these questions, please indicate your position in the maritime industry as well as the type of vessel, cargo, and charter agreement specific to your situation, if applicable.

(1) Recognizing that AIS may ultimately be required on all navigable waters, what particular waterways or ports should be implemented before others?

(2) Are there particular waterways where the AIS requirements should be waived? Why?

(3) AIS is not specifically mandated (by the MTSA) on all vessels. The MTSA, however, does allow the Secretary to require AIS on any vessel if deemed necessary for safe navigation. Should other vessels (e.g., commercial vessels under 65 feet in length, towing vessels under 26 feet and 600 horsepower, dredges and floating plants, recreational vessels, offshore facilities, or Mobile Offshore Drilling Units) be required to have AIS?

(4) SOLAS expects nations to implement their AIS carriage on their domestic fleet (vessels over 500 gross tonnage and passenger vessels not on international voyage) not later than July 1, 2008. However, the MTSA requires AIS by December 31, 2004. Knowing this, should certain vessels be granted temporary exemptions regarding the compliance dates in MTSA?

(5) Under what circumstances, if any, should a vessel be exempted from the AIS requirements per the MTSA exemption?

(6) SOLAS defines a passenger vessel as carrying 12 or more passengers. VTS regulations define VTS users as passenger vessels over 100 gross tons carrying 1 or more passengers or those certificated to carry 50 or more passenger. The MTSA allows the Secretary to determine the threshold number of passengers when determining which passenger vessels are required to have AIS. Should we expand AIS carriage beyond what is already defined in SOLAS and our rule?

(7) Should the Coast Guard encourage or require the use of systems such as electronic chart display and information system (ECDIS) and electronic chart system (ECS) to display AIS information to enhance navigation safety? Are there other systems that could be used for this purpose?

(8) Would you be more likely to install an ECDIS or ECS on your vessel, to display AIS information, if the system could be used to comply with an existing requirement to carry nautical charts?

As noted previously, comments regarding these questions, and any other pertinent matters brought to our attention during the comment period, will be taken into account in our future actions regarding the issues raised by these questions.

Public Meeting

The Coast Guard is considering having two public meetings on this topic, in addition to the public meeting announced in the AIS interim rule, published elsewhere in today's Federal Register. We would like your comments on the questions and particular issues that should be addressed at these meetings, as well as where the meetings should be held. Send your comments requesting a public meeting to the Docket Management Facility at the address under ADDRESSES. We will announce a time and place for each meeting by a later notice in the Federal Register.

Dated: June 23, 2003.
Thomas H. Collins,
Admiral, U.S. Coast Guard Commandant.

[FR Doc. 03-16192 Filed 6-27-03; 8:45 am]

BILLING CODE 4910-15-P